ENVIRONMENTAL PROTECTION AGENCY

[OPPT-2005-0034; FRL-7722-9]

Polychlorinated Biphenyls; Notice of Public Meeting

AGENCY: Environmental Protection Agency (EPA).

ACTION: Notice.

SUMMARY: EPA will conduct a public meeting on polychlorinated biphenyls (PCBs) to discuss PCB remediation waste and related activities under the Toxic Substances Control Act (TSCA). Information obtained at the meeting will be considered by the Agency in preparing a response to the Office of Management and Budget (OMB) regarding a request for reform of PCB remediation waste disposal activities.

DATES: The meeting will be held on July 18, 2005, from 9 a.m. to noon. EPA encourages attendees to pre-register for this public meeting by July 11, 2005.

Requests to give oral presentations at the meeting, identified by docket identification (ID) number OPPT-2005-0034, must be received in writing on or before July 11, 2005.

Submit requests for special accommodations, identified by docket ID number OPPT-2005-0034, to the technical person on or before July 11, 2005.

ADDRESSES: The meeting will be held in EPA's East Bldg., Rm. 1153, at 1201 Constitution Ave., NW., Washington, DC.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Peggy Reynolds, National Program Chemicals Division (7404T), Office of Pollution Prevention and Toxics, Environmental Protection Agency, 1200 Pennsylvania Ave., NW., Washington, DC 20460-0001; telephone number: (202) 566-0513; e-mail address: reynolds.peggy@epa.gov.

SUPPLEMENTARY INFORMATION:

I. General Information

A. Does this Action Apply to Me?

This action is directed to the public in general, and may be of particular interest to those persons who clean up and dispose of PCB remediation waste. Potentially affected entities may include, but are not limited to:

• Oil and Gas Extraction (NAICS 21111), e.g., Former and existing facilities with surfaces contaminated by PCBs.

• Electric Power Generation, Transmission and Distribution (NAICS 2211), e.g., Former and existing facilities with surfaces contaminated by PCBs.

• Construction (NAICS 23), e.g., Former and existing facilities with surfaces contaminated by PCBs.

• Food Manufacturing (NAICS 311), e.g., Former and existing facilities with surfaces contaminated by PCBs.

• Paper Manufacturing (NAICS 322), e.g., Former and existing facilities with surfaces contaminated by PCBs.

• Petroleum and Coal Products Manufacturing (NAICS 324), e.g., Former and existing facilities with surfaces contaminated by PCBs.

• Primary Metal Manufacturing (NAICS 331), e.g., Former and existing facilities with surfaces contaminated by PCBs.

• Rail Transportation (NAICS 48211), Former and existing facilities with surfaces contaminated by PCBs.

• Lessors of Real Estate (NAICS 5311), e.g., Former and existing facilities with surfaces contaminated by PCBs.

• Professional, Scientific and Technical Services (NAICS 54), e.g., Testing laboratories, environmental consulting.

• Waste Treatment and Disposal (NAICS 5622), Former and existing facilities with surfaces contaminated by PCBs.

• Repair and Maintenance (NAICS 811), e.g., Repair and maintenance of appliances, machinery, and equipment.

• Public Administration (NAICS 92), Federal, State, and local agencies.

Since other entities may also be interested, the Agency has not attempted to describe all the specific entities that may have an interest in this matter. If you have any questions regarding the applicability of this action to a particular entity, consult the technical person listed under FOR FURTHER INFORMATION CONTACT.

B. How Can I Get Copies of this Document and Other Related Information?

1. Docket. EPA has established an official public docket for this action under docket ID number OPPT-2005-0034. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit A Request to Make an Oral Presentation?

You may submit a request to make an oral presentation electronically, by mail, or through hand delivery/courier. To ensure proper receipt by EPA, identify the appropriate docket ID number in the subject line. Please ensure your request is submitted within the specified time frame. Requests received after that date will be marked “late.” EPA is not required to consider late submissions.

1. Electronically. If you submit an electronic request as prescribed in this unit, EPA recommends that you include your name, mailing address, and an e-mail address or other contact information. This ensures that you can be identified as the submitter and allows EPA to contact you in case EPA needs further information.

i. EPA Dockets. Your use of EPA's electronic public docket to submit a request to make an oral presentation to EPA electronically is EPA's preferred method for receiving requests. Go directly to EPA Dockets at http://www.epa.gov/edocket/, and follow the instructions for submitting comments. Once in the system, select “search,” and then key in docket ID number OPPT-2005-0034. The system is an “anonymous access” system, which means EPA will not know your identity, e-mail address, or other contact information unless you provide it in the body of your request.

ii. E-mail. Requests to make an oral presentation may be sent by e-mail to oppt.ncic@epa.gov, Attention: Docket ID Number OPPT-2005-0034. In contrast to EPA's electronic public docket, EPA's e-mail system is not an “anonymous access” system. If you send an e-mail request directly to the docket without going through EPA's electronic public docket, EPA's e-mail system automatically captures your e-mail address. E-mail addresses that are automatically captured by EPA's e-mail system are included as part of the request that is placed in the official public docket, and made available in EPA's electronic public docket.

2. By mail. Send your request to make an oral presentation to: Document Control Office (7407M), Office of Pollution Prevention and Toxics (OPPT), Environmental Protection Agency, 1200 Pennsylvania Ave., NW., Washington, DC 20460-0001.

3. By hand delivery or courier. Deliver your request to make an oral presentation to: OPPT Document Control Office (DCO), EPA East Bldg., Rm. 6428, 1201 Constitution Ave., NW., Washington, DC. Attention: Docket ID Number OPPT-2005-0034. The DCO is open from 8 a.m. to 4 p.m., Monday through Friday, excluding legal holidays. The telephone number for the DCO is (202) 564-8930.

II. Background

Congress directed OMB to prepare an annual report to Congress on the costs and benefits of Federal regulations. On February 20, 2004, OMB made the report “2004 Draft Report to Congress on the Costs and Benefits of Federal Regulations” publically available and requested public nominations for reforms (Ref. 1). One of the nominations that OMB received was from the Utilities Solid Waste Advisory Group (USWAG) (Ref. 2). USWAG contends EPA treats identical PCB remediation waste at concentrations less than 50 parts per million (ppm) differently. It believes that all PCB remediation wastes at concentrations less than 50 ppm should be managed in the same manner, “including being disposed in a municipal solid waste landfill.” While EPA does not necessarily believe that the exact same PCB remediation waste is treated differently, it is reviewing these concerns to determine how to minimize any potential confusion. EPA is interested in obtaining stakeholder input on how to make the PCB remediation waste activities more transparent. To obtain this input, EPA is holding a public meeting. A brief background paper is available from the TSCA-Hotline (Ref. 3). The TSCA Hotline can be reached by telephone at (202) 554-1404 or by e-mail at TSCA-Hotline@epa.gov.

III. Meeting Procedures

Oral presentations will be limited to 10 minutes. In order to give an oral presentation follow the instructions in Unit I.C. A written copy of the oral presentation must be provided to the technical person listed under FOR FURTHER INFORMATION CONTACT at the public meeting for inclusion in the official public docket. Direct inquiries regarding oral presentations and the submission of written copies of these oral presentations to the technical person listed under FOR FURTHER INFORMATION CONTACT.

Seating at the meeting will be on a first-come basis. Special accommodations will be available for those requesting them on or before July 11, 2005.

Persons interested in attending the public meeting are encouraged to pre-register by calling the technical person listed under FOR FURTHER INFORMATION CONTACT and providing your name, organization, and telephone number by July 11, 2005. This advance request will assist in planning adequate seating and in securing access to the building. Meeting attendees are directed to use the EPA East entrance on Constitution Ave., near 12th St., NW., for direct access to the meeting room. Members of the public may attend without prior registration with the technical person, but pre-registration is encouraged.

IV. References

The following references have been placed in the official public docket that was established under docket ID number OPPT-2005-0034 for this action as indicated in Unit I.B.1.

1. OMB. 2004 Draft Report to Congress on the Costs and Benefits of Federal Regulations. Federal Register (69 FR 7987, February 20, 2004).

2. USWAG comments. Letter to Ms. Lorraine Hunt, OMB, from Joseph E. Shefchek, USWAG, dated May 20, 2004. Subject: Draft Report to Congress on the Costs and Benefits of Federal Regulation; Notice and Request for Comments.

3. EPA. Background Paper: PCB Remediation Waste.

List of Subjects

Environmental protection, Chemicals, Hazardous substances, Labeling, Polychlorinated biphenyls (PCBs), Reporting and recordkeeping requirements.

Dated: June 23, 2005.
Charles M. Auer,
Director, Office of Pollution Prevention and Toxics.

[FR Doc. 05-12916 Filed 6-29-05; 8:45 am]

BILLING CODE 6560-50-S